DEPARTMENT OF ENERGY

Federal Energy Regulatory Commission

[Docket No. RP01-33-001]

Questar Pipeline Company; Notice of Compliance Filing

December 19, 2000.

Take notice that on November 21, 2000, Questar Pipeline Company (Questar) tendered for filing as part of its FERC Gas Tariff, First Revised Volume No. 1, Substitute Fifth Revised Sheet No. 79, to be effective November 1, 2000.

Questar states that the purpose of this filing is to comply with Ordering Paragraph (C) of the Commission's Order on Filings to Establish Imbalance Netting and Trading Pursuant to Order Nos. 587-G and 587-L issued November 9, 2000, in Docket Nos. RM96-1-014, et al. which directed Questar to file revised tariff sheets, within 15 days of the order. The revision to be included will permit netting and trading across Questar's no-notice Rate Schedule NNT.

Questar seeks waiver of 18 CFR 154.207 so that the tendered tariff sheets may become effective November 1, 2000, the implementation date of Order No. 587-L.

Questar states that a copy of this filing has been served upon its customers, the Public Service Commission of Utah and the Public Service Commission of Wyoming.

Any person desiring to protest said filing should file a protest with the Federal Energy Regulatory Commission, 888 First Street, N.E., Washington, D.C. 20426, in accordance with Section 385.211 of the Commission's Rules and Regulations. All such protests must be filed on or before December 27, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the Internet in lieu of paper. See, 18 CFR 385.2001(a)(1)(iii) and the instructions on the Commission's web site at http://www.ferc.fed.us/efi/doorbell.htm.

David P. Boergers,
Secretary.

[FR Doc. 00-32799 Filed 12-22-00; 8:45 am]

BILLING CODE 6717-01-M